DEPARTMENT OF THE INTERIOR

Office of the Secretary

Reaffirmation of Statement of Findings: Southern Arizona Water Rights Settlement Amendments Act of 2004

AGENCY: Office of the Secretary, Interior.

ACTION: Notice of Statement of Findings in accordance with Title III of Public Law 108-451, and enactment of H.R. 3739 (Public Law Number forthcoming).

SUMMARY: The Secretary of the Interior (Secretary) is publishing this notice in accordance with section 302(b) of the Southern Arizona Water Rights Settlement Amendments Act of 2004 (Settlement Amendments Act), Public Law 108-451, 118 Stat. 3536, 3571-72, and H.R. 3739 (Public Law Number forthcoming). Congress enacted the Settlement Amendments Act as Title III of the Arizona Water Settlements Act (AWSA), Public Law 108-451, 118 Stat. 3478 et seq. The publication of this notice causes the amendments to the Southern Arizona Water Rights Settlement Act of 1982 (1982 Act), Public Law 97-293, 96 Stat. 1274 (as amended), made by the Settlement Amendments Act to take effect.

DATES: In accordance with section 302(b) of the Settlement Amendments Act, Title III of Public Law 108-451 and the amendments made by Title III are effective on December 14, 2007.

FOR FURTHER INFORMATION CONTACT: Address all comments and requests for additional information to Deborah Saint, Chair, Arizona Water Settlements Implementation Team, Department of the Interior, Bureau of Reclamation, Lower Colorado Region, Native American Affairs Office, 400 N 5th Street, Suite 1470, Phoenix, AZ 85004. (602) 379-3199.

SUPPLEMENTARY INFORMATION: The 1982 Act was enacted to resolve the water right claims of the San Xavier and Shuk Toak Districts of the Tohono O'odham Nation (Nation). Disagreement about the allocation of settlement benefits precluded implementation of the 1982 Act. On December 10, 2004, the Settlement Amendments Act was enacted as Title III of AWSA in order to resolve issues which precluded implementation of the 1982 Act.

The purposes of the Settlement Amendments Act are:

(1) To authorize, ratify, and confirm the Tohono O'odham settlement agreement, the Tucson agreement, the Asarco agreement and related leases, and the FICO agreement;

(2) To authorize and direct the Secretary to execute and perform all obligations of the Secretary under those agreements; and

(3) To authorize the actions and appropriations necessary for the United States to meet its obligations under those agreements and the Settlement Amendments Act. In order for the Settlement Amendments Act and its amendments to be effective and enforceable, the Secretary is required to make a statement of findings that certain conditions have been met. The Secretary signed such a Statement of Findings on December 10, 2007, and such findings were published in the Federal Register on December 14, 2007 (72 FR 71145, Dec. 14, 2007). Subsequent to the Secretary's signing of the Statement of Findings, Congress passed H.R. 3739 (Public Law Number forthcoming), which was signed into law by the President on December 21, 2007. This Federal Register Notice reaffirms the Statement of Findings in light of the enactment of H.R. 3739 and includes a technical correction in light of an inadvertent typographical error.

Statement of Findings

In accordance with section 302(b) of the Settlement Amendments Act, I find as follows:

1. The Tohono O'odham settlement agreement has been revised to eliminate any conflicts with the Settlement Amendments Act and, as so revised, has been executed by the parties and the Secretary.

2. The Secretary and other parties to the Tucson agreement, the Asarco agreement and the FICO agreement described in section 309(h)(2) Settlement Amendments Act (as contained in the amendment made by section 301) have executed those agreements.

3. The Secretary has approved the interim allottee water rights code described in section 308(b)(3)(A) of the Settlement Amendments Act (as contained in the amendment made by section 301).

4. Final dismissal with prejudice has been entered in the Alvarez case and the Tucson case on the sole condition that this Statement of Findings be published.

5. The State court having jurisdiction over the Gila River Adjudication proceedings has approved the judgment and decree attached to the Tohono O'odham settlement agreement as exhibit 17.1.¹

¹ Substantive modification to correspond to the provisions of H.R. 3739, signed into law by the President on December 21, 2007 (Public Law No. forthcoming, __Stat.__(2007)).

6. Implementation costs totaling $24,068,400, as specified in section 302(b)(6) of the Settlement Amendments Act, have been identified and retained in the Lower Colorado River Basin Development Fund.

7. The State of Arizona has enacted legislation that qualifies the Nation to earn long-term storage credits under the Asarco agreement; implements the San Xavier groundwater protection program in accordance with paragraph 8.8 of the Tohono O'odham settlement agreement; enables the State to assist the Secretary in firming Central Arizona Project water pursuant to section 306(b); and confirms the jurisdiction of the State court having jurisdiction over Gila River Adjudication proceedings and decrees to carry out the provisions of sections 312(d) and 312(h) of the Settlement Amendments Act (as contained in the amendment made by section 301).

8. The Secretary and the State of Arizona have agreed to an acceptable schedule as referred to in section 105(b)(2)(C) of AWSA.²

² Technical correction in light of an inadvertent typographical error. The reference to “15,000 acre-feet” incorrectly referenced the firming obligation for the benefit of the Gila River Indian Community found at section 105(b)(2)(A) of AWSA.

9. Final judgment has been entered in Central Arizona Water Conservation District v. United States (No. CIV 95-625-TUC-WDB (EHC), No. CIV 95-1720-PHX-EHC) (Consolidated Action) in accordance with the repayment stipulation in that case.

Dated: December 21, 2007.
Dirk Kempthorne,
Secretary of the Interior.

[FR Doc. E7-25290 Filed 12-27-07; 8:45 am]

BILLING CODE 4310-MN-P